DEPARTMENT OF VETERANS AFFAIRS

Special Medical Advisory Group, Notice of Meeting; Amendment

The Department of Veterans Affairs (VA) gives notice under the Federal Advisory Committee Act, 5 U.S.C. App. 2, that the Special Medical Advisory Group will meet on September 1, 2016, at the VHA National Conference Center, 2011 Crystal Drive, Arlington, VA 22202 from 8 a.m. to 4 p.m. EST in the Potomac A Room. The meeting is open to the public.

The purpose of the Group is to advise the Secretary of Veterans Affairs and the Under Secretary for Health on the care and treatment of Veterans, and other matters pertinent to the Department's Veterans Health Administration (VHA).

The agenda for the meeting will include a review of Commission on Care, Center for Compassionate Innovation (CCI), VA Innovation Center & Innovation Fellows, Strategic Partnerships and Rebuilding Relationships with IBM Watson and Google Deep Mind.

Thirty (30) minutes will be allocated for receiving oral presentations from the public. Members of the public may submit written statements for review by the Committee to Dr. Donna Wells-Taylor, Department of Veterans Affairs, Office of Patient Care Services (10P4), Veterans Health Administration, 810 Vermont Avenue NW., Washington, DC 20420, or by email at donna.wells-taylor@va.gov.

Because the meeting is being held in the VHA National Conference Center, a photo I.D. is required at the entrance as a part of the clearance process. Therefore, you should plan to arrive 15 minutes before the meeting begins to allow time for the clearance process. Any member of the public wishing to attend the meeting or seeking additional information should contact Dr. Donna Wells-Taylor at (202) 461-1025 or by email.

Dated: July 19, 2016.
Jelessa M. Burney,
Federal Advisory Committee Management Officer.

[FR Doc. 2016-17363 Filed 7-21-16; 8:45 am]

BILLING CODE P